DEPARTMENT OF THE INTERIOR

Bureau of Land Management

[OR-957-00-6334-BJ: GP08-035]

Filing of Plats of Survey: Oregon/Washington

AGENCY: U.S. Department of the Interior, Bureau of Land Management.

ACTION: Notice.

SUMMARY: The plats of survey of the following described lands were officially filed in the Bureau of Land Management Oregon/Washington State Office, Portland, Oregon, on September 13, 2007.

Willamette Meridian

Washington

T. 23 N., R. 13 W., accepted July 12, 2007.

T. 21 N., R. 12 W., accepted July 19, 2007.

T. 21 N., R. 13 W., accepted August 17, 2007.

Oregon

T. 18 S., R. 34 E., accepted July 12, 2007.

T. 41 S., R. 7 E., accepted July 30, 2007.

T. 39 S., R. 3 W., accepted August 17, 2007.

T. 8 S., R. 3 E., accepted August 17, 2007.

The plats of survey of the following described lands were officially filed in the Bureau of Land Management Oregon/Washington State Office, Portland, Oregon, on October 22, 2007.

Willamette Meridian

Washington

T. 39 N., R. 33 E., accepted August 31, 2007.

T. 30 N., R. 7 W., accepted September 28, 2007.

Oregon

T. 31 S., R. 2 W., accepted September 13, 2007.

T. 41 S., R. 9 W., accepted September 28, 2007.

T. 36 S., R. 7 W., accepted September 28, 2007.

T. 8 S., R. 27 E., accepted September 28, 2007.

The plat of survey of the following described lands was officially filed in the Bureau of Land Management Oregon/Washington State Office, Portland, Oregon, on November 6, 2007.

Willamette Meridian

Oregon

T. 32 S., R. 4 W., accepted October 18, 2007.

A copy of the plats may be obtained from the Land Office at the Oregon/Washington State Office, Bureau of Land Management, 333 SW. 1st Avenue, Portland, Oregon 97204, upon required payment. A person or party who wishes to protest against a survey must file a notice that they wish to protest (at the above address) with the Oregon/Washington State Director, Bureau of Land Management, Portland, Oregon.

For further information contact: Chief, Branch of Geographic Sciences, Bureau of Land Management, (333 SW. 1st Avenue) P.O. Box 2965, Portland, Oregon 97208.

Dated: December 13, 2007.
Fred O'Ferrall,
Branch Chief, Lands and Minerals Resources.

[FR Doc. E7-25430 Filed 1-2-08; 8:45 am]

BILLING CODE 4310-33-P